DEPARTMENT OF ENERGY

Federal Energy Regulatory Commission

Combined Notice of Filings #1

Take notice that the Commission received the following electric rate filings:

Docket Numbers: ER16-2360-004.

Applicants: Great Western Wind Energy, LLC.

Description: Notice of Non-Material Change in Status of Great Western Wind Energy, LLC.

Filed Date: 8/24/17.

Accession Number: 20170824-5079.

Comments Due: 5 p.m. ET 9/14/17.

Docket Numbers: ER17-2351-000.

Applicants: PJM Interconnection, L.L.C.

Description: § 205(d) Rate Filing: Queue Position AC1-117, Original Service Agreement No. 4768 to be effective 8/4/2017.

Filed Date: 8/23/17.

Accession Number: 20170823-5083.

Comments Due: 5 p.m. ET 9/13/17.

Docket Numbers: ER17-2352-000.

Applicants: Deseret Generation & Transmission Co-operative, Inc.

Description: § 205(d) Rate Filing: 2017 RIA Annual Update to be effective7/1/2017.

Filed Date: 8/23/17.

Accession Number: 20170823-5084.

Comments Due: 5 p.m. ET 9/13/17.

Docket Numbers: ER17-2353-000.

Applicants: Otter Tail Power Company.

Description: § 205(d) Rate Filing: Notice of Cancellation of Rate Schedule No. 110 Transmission Service Agreement to be effective 10/22/2017.

Filed Date: 8/23/17.

Accession Number: 20170823-5112.

Comments Due: 5 p.m. ET 9/13/17.

Docket Numbers: ER17-2354-000.

Applicants: Virginia Electric and Power Company.

Description: Notice of Cancellation of Generator Interconnection and Operating Agreement of Virginia Electric and Power Company.

Filed Date: 8/24/17.

Accession Number: 20170824-5055.

Comments Due: 5 p.m. ET 9/14/17.

Docket Numbers: ER17-2355-000.

Applicants: Alabama Power Company.

Description: § 205(d) Rate Filing: Teichos Energy (Wildwood Solar) SGIA Filing to be effective 8/16/2017.

Filed Date: 8/24/17.

Accession Number: 20170824-5059.

Comments Due: 5 p.m. ET 9/14/17.

Take notice that the Commission received the following public utility holding company filings:

Docket Numbers: PH17-4-002.

Applicants: Starwood Energy Group Global, L.L.C.

Description: Starwood Energy Group Global, L.L.C. submits FERC 65-B Material Change in Facts of Waiver Notification.

Filed Date: 8/24/17.

Accession Number: 20170824-5083.

Comments Due: 5 p.m. ET 9/14/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 24, 2017.
Nathaniel J. Davis, Sr.,
Deputy Secretary.

[FR Doc. 2017-18459 Filed 8-30-17; 8:45 am]

BILLING CODE 6717-01-P